DEPARTMENT OF STATE

[Public Notice 8397]

Bureau of European and Eurasian Affairs (EUR) Request for Proposals for the Fundraising, Construction, Development, Organization, Management, Disassembly and Removal of a USA Pavilion/Exhibition at Universal Expo Milan Italy 2015, Hereafter Referred to as Milan Expo 2015

Correction

In notice document 13-18171 beginning on page 45593 in the issue of Monday, July 29, 2013 make the following correction:

On page 45595, in the third column, the first full paragraph should read as follows:

Proposals will be deemed ineligible if they are not submitted by a U.S. citizen, corporation or U.S.-based organization and do not fully adhere to the General Regulations of the Milan Expo 2015 and the guidelines stated herein.

[FR Doc. C1-2013-18171 Filed 8-8-13; 8:45 am]

BILLING CODE 1505-01-D